DEPARTMENT OF HEALTH AND HUMAN SERVICES

Office of Inspector General

Program Exclusions: February 2004

AGENCY: Office of Inspector General, HHS.

ACTION: Notice of program exclusions.

During the month of February 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation Office of Inspector General—DHHS Case Investigation Management System
[For Press Release From 2/1/2004-2/29/2004]
Subject, city, state | Effective date
PROGRAM-RELATED CONVICTIONS
ABRAMOV, EDUARD | 3/18/2004
ELOY, AZ
BROOKS, TAMMY | 3/18/2004
DECATUR, GA
CANNAVO, JOSEPH | 3/18/2004
PHILADELPHIA, PA
CARDO, STEVEN | 3/18/2004
JACKSONVILLE, FL
CHERRY, ADAM | 3/18/2004
CORAL SPRINGS, FL
CONLEY, JANICE | 3/18/2004
WESLEY CHAPEL, FL
CONNELL, JEFFREY | 3/18/2004
GOREVILLE, IL
CRANWELL, WILLIAM | 8/1/2003
ROANOKE, VA
DAVIS, DIXIE | 3/18/2004
VINTON, IA
DO, KEVIN | 3/18/2004
TAFT, CA
EMERALD PHYSICAL THERAPY, PC | 3/18/2004
MT PLEASANT, MI
EYFORD, INC | 3/18/2004
FISHERS, IN
FANN, EDWARD | 7/26/2003
ST LOUIS, MO
FELDMAN, BRUCE | 3/18/2004
BRYN MAWR, PA
FERNANDEZ, ANGEL | 3/18/2004
MIAMI BEACH, FL
GARCIA, KATHERINE | 3/18/2004
FARIBAULT, MN
GELLIS, RICHARD | 3/18/2004
SACRAMENTO, CA
HCMF CORPORATION | 8/28/2003
ROANOKE, VA
KENNEDY, PATRICIA | 3/18/2004
JACKSONVILLE, FL
LEMES, ANDREW | 3/18/2004
ROCHESTER, MN
LOPEZ, JOHN | 3/18/2004
HILLSIDE, NJ
MAHMUD, ASIF | 3/18/2004
BROOKLYN, NY
MARQUEZ, FRANCISCO | 3/18/2004
WHITTIER, CA
MARTINEZ, ANA | 3/18/2004
VACAVILLE, CA
MOORE, TAMARA | 3/18/2004
ANDERSON, SC
MYERS, LAWRENCENIA | 3/18/2004
FLORENCE, SC
NEBESNIAK, LAWRENCE | 3/18/2004
OMAHA, NE
PHAN, PATRICK | 3/18/2004
BELLEVUE, WA
PONDER, NATHANIEL | 3/18/2004
MIRAMAR, FL
RAMNATH, RAMACHANDRAN | 3/18/2004
SYOSSETT, NY
REDONDO, LEONARDO | 3/18/2004
MIAMI LAKES, FL
REYES, CARLOS | 3/18/2004
E AMHERST, NY
ROBLAS, ESTERHILDA | 3/18/2004
VACAVILLE, CA
ROYSTER, RICHARD | 3/18/2004
PHILADELPHIA, PA
SAMA, ROLANDO | 3/18/2004
MIAMI BEACH, FL
SLEETH, ERNEST | 3/18/2004
EGLIN AFB, FL
STEELE, LAMONT | 3/18/2004
TALLADEGA, AL
SWINIUCH, JAMES | 3/18/2004
NEWTOWN SQUARE, PA
TATE, KLAUS | 3/18/2004
PEARL, MS
THOMPSON, DOROTHY | 3/18/2004
HALFWAY, OR
THURMAN, SEABORN | 3/18/2004
MT PLEASANT, SC
TOKARENKO, GALINA | 3/18/2004
SEATTLE, WA
VALLE, GUSTAVO | 3/18/2004
SALT LAKE CITY, UT
WEISSIG, PHYLLIS | 3/18/2004
SPOKANE, WA
WINN, PAMELA | 3/18/2004
COLLEGE PARK, GA
WINSBRO, WILLIAM | 3/18/2004
CLINTON, TN
WOLBERG, DIEDRE | 3/18/2004
ALBANY, NY
FELONY CONVICTION FOR HEALTH CARE FRAUD
ARCHULETA, FRANCES | 3/18/2004
LAS ANIMAS, CO
BECK, MARK | 3/18/2004
GEORGETOWN, SC
ELIA-RAGGIO, LORI | 3/18/2004
MOUNT LAUREL, NJ
HADDAS, EDWARD | 3/18/2004
WEAVERVILLE, NC
HAHN, KELLIE | 3/18/2004
CARY, NC
IRANI, GEVE | 3/18/2004
LOS ANGELES, CA
MCDOUGALL, DAWN | 3/18/2004
LAKEVIEW, OR
MYERS, JACK | 3/18/2004
SEADRIFT, TX
OHANESIAN, KEITH | 3/18/2004
SHERMAN OAKS, CA
PATRICK, GAIL | 3/18/2004
BALLWIN, MO
SCHELLE, MICHELLE | 3/18/2004
PINE BLUFF, AR
STEPHENS, SHARON | 3/18/2004
TALLAHASSEE, FL
FELONY CONTROL SUBSTANCE CONVICTION
BISHOP, RANDY | 3/18/2004
SEAGOVILLE, TX
BROOKS, MAUREEN | 3/18/2004
BELMAR, NJ
BURGETT, DONNA | 3/18/2004
CLAYTON, MO
BURRIES, SOLOMON | 3/18/2004
LAKE ELSINORE, CA
FELDERMAN, LINDA | 3/18/2004
BEAVERTON, OR
GALLOWAY, LESLIE | 3/18/2004
ERIE, PA
GRIECO, MICHELLE | 3/18/2004
SARASOTA, FL
HUBBARD, KATHLEEN | 3/18/2004
MUSKEGON, MI
KAZMAN, ARTHUR | 3/18/2004
DOLYESTOWN, PA
MARION, EVELYN | 3/18/2004
PUNTA GORDA, FL
MCKINSTRY, ROBIN | 3/18/2004
ORANGE PARK, FL
PETERSON, EDWARD | 3/18/2004
LEEDS, AL
ROONEY, JAE | 3/18/2004
MOORE, OK
SCHREY, FREDERICK | 3/18/2004
SAYLORSBURG, PA
SNYDER, STEVEN | 3/18/2004
MANCHESTER, KY
YARBORO, COLONEL | 3/18/2004
COLUMBUS, OH
PATIENT ABUSE/NEGLECT CONVICTIONS
ALOWONLE, FATAI | 3/18/2004
LITTLE CANADA, MN
BINES, KENNETH | 3/18/2004
MONROE, WA
BOISELLE, DAVID | 3/18/2004
EVERETT, WA
COTTERMAN, DANIEL | 3/18/2004
CUMMING, GA
DOTTER FAMILY CORPORATION | 3/18/2004
PITTSBURGH, PA
ESQUIVEL, FIDEL | 3/18/2004
BUFORD, GA
GEORGE, LESLIE | 3/18/2004
ST MARYS, GA
GILES, PATRICIA | 3/18/2004
SAVANNAH, GA
GREEN, EURONDA | 3/18/2004
ST PETERSBURG, FL
HOLMES, FLOYD | 3/18/2004
ALEXANDRIA, LA
ISOM, BARBARA | 3/18/2004
ATLANTA, GA
JACKSON, KATHERINE | 3/18/2004
WOODBINE, GA
LIGON, LYNN | 3/18/2004
RIVERHEAD, NY
MCALLISTER, SHALENA | 3/18/2004
ROME, GA
MICHAELSON, JOE | 3/18/2004
BOONE, CO
NICKELSON, JUANITA | 3/18/2004
ROXIE, MS
OGBONNA, CHINONSO | 3/18/2004
WINDSOR MILL, MD
PITTSLEY, ELIZABETH | 3/18/2004
CINCINNATUS, NY
SHORT, LAFONDA | 3/18/2004
BUTLER, GA
SNYDER, TAMMY | 3/18/2004
MORIAH, NY
THOMAS, DEBORAH | 3/18/2004
MEADVILLE, MS
WILLIAMS, HALINTON | 3/18/2004
JASPER, FL
WOFFORD, ERIC | 3/18/2004
FRANKFORT, KY
CONVICTION FOR HEALTH CARE FRAUD
ABERLE, MELISSA | 3/18/2004
MEMPHIS, TN
CONVICTION-OBSTRUCTION OF AN INVESTIGATION
CG NUTRIONALS, INC | 6/23/2003
ABBOTT PARK, IL
LICENSE REVOCATION/SUSPENSION/SURRENDERED
ALLEN-WALKER, JAMINA | 3/18/2004
LOVELL, WY
ANDRUS, MARY | 3/18/2004
MOUNT VERNON, WA
ARNOLD, DOROTHY | 3/18/2004
BATH, NY
AUDET, CHRISTINA | 3/18/2004
MARYSVILLE, WA
BAKER, TAWNY | 3/18/2004
SEQUIM, WA
BATSON, DOROTHY | 3/18/2004
TUCSON, AZ
BAUMGARDNER, KIMBERLY | 3/18/2004
KINGSPORT, TN
BELL, JOHN | 3/18/2004
CAMERON PARK, CA
BLACK, ROBERT | 3/18/2004
LAWRENCEVILLE, GA
BRENDEL, AQUILLA | 3/18/2004
YORK, PA
BROWN, ANGELA | 3/18/2004
PRATTVILLE, AL
BROWN, TINA | 3/18/2004
MIDLOTHIAN, VA
BROWNING, WILLIAM | 3/18/2004
LEXINGTON, MA
BRYAN, WILLIAM | 3/18/2004
GLENDALE, AZ
BURGER, JIMMIE | 3/18/2004
MIAMI, FL
BUTLER, DAVID | 3/18/2004
BONITA, CA
CANTRELL, JACK | 3/18/2004
PHOENIX, AZ
CARLSON, CATHY | 3/18/2004
MESA, AZ
CLARK, SHONDA | 3/18/2004
ENOSBURG FALLS, VT
CLAYTON, MICHELLE | 3/18/2004
SHENANDOAH, IA
CLONCH, MARK | 3/18/2004
CHINO, CA
CONLEY, JENNIFER | 3/18/2004
WYOMING, PA
DAVIS, JULIE | 3/18/2004
DELMONT, PA
DAWSON, CHRIS | 3/18/2004
AUBURN, CA
DE JESUS, SHAWN | 3/18/2004
UNION CITY, CA
DESHONG, PAMELA | 3/18/2004
SHIPPENSBURG, PA
DIEGUEZ, WENDY | 3/18/2004
PLANTATION, FL
DODSON, EMILY | 3/18/2004
WHITE BLUFF, TN
DOMENECH, BECKY | 3/18/2004
ORLANDO, FL
DOUB, KRISTY | 3/18/2004
PFAFFTOWN, NC
DUCHARME, DENIS | 3/18/2004
AUBURN, ME
ELLIS, MICHAEL | 3/18/2004
MARSHALL, TX
EMMERSON, LLOYD | 3/18/2004
CLOVIS, CA
FEATHERINGILL, REGINA | 3/18/2004
BIRMINGHAM, AL
FOLSOM, CHRISTINE | 3/18/2004
CHARLOTTE, NC
FONTENOT, CATHERINE | 3/18/2004
IOWA, LA
FURGERSON, JACQUELINE | 3/18/2004
LEASBURG, MO
GIBERTI, ROCCO | 3/18/2004
WARREN, ME
GOFF, TRACY | 3/18/2004
GLENDALE, AZ
HACKETT, RIVON | 3/18/2004
PARMA HEIGHTS, OH
HALE, GARRY | 3/18/2004
SMITHVILLE, TN
HARDAGE, DAVID | 3/18/2004
SAN ANTONIO, TX
HARDEE, MICHAEL | 3/18/2004
SEMINOLE, FL
HART, WILLIAM | 3/18/2004
BRISTON, FL
HASLEY, STEVEN | 3/18/2004
MELBOURNE, FL
HEADY, LAURA | 3/18/2004
GAINESBORO, TN
HENRY, DIANA | 3/18/2004
FORT LAUDERDALE, FL
HENSEL, MARNNIE | 3/18/2004
ABILENE, TX
HERRING, HUBERT | 3/18/2004
JACKSONVILLE, FL
HERRINGTON, LAURIE | 3/18/2004
LOUISVILLE, TN
HOSTLER, JOHN | 3/18/2004
COLUMBUS, OH
HUNT, ELENA | 3/18/2004
LACEY, WA
HURLBURT, BRIAN | 3/18/2004
CHELSEA, VT
JACKSON, BARBARA | 3/18/2004
ARVADA, CO
JAMES, CARLA | 3/18/2004
GLENDALE, AZ
JOHNSON, ANDREA | 3/18/2004
KESWICK, VA
JOHNSON, TERESA | 3/18/2004
FULTONDALE, AL
JONES, WILLIAM | 3/18/2004
RICHMOND, CA
KAZMI, SYED | 3/18/2004
CHICAGO, IL
KEEFER, LAURA | 3/18/2004
WILLOW SPRINGS, NC
KOZLOWSKI, KARIE | 3/18/2004
TUCSON, AZ
LANDRY, NORMA | 3/18/2004
LABADIEVILLE, LA
LAWSON, CAROL | 3/18/2004
TERRE HAUTE, IN
LOCKLEAR, TRACEY | 3/18/2004
MAXTON, NC
LOEFFLER, BRIAN | 3/18/2004
TIBURON, CA
MAAT, THOMAS | 3/18/2004
TOMS RIVER, NJ
MACFARLANE, VICTORIA | 3/18/2004
BREMERTON, WA
MACK, SANDRA | 3/18/2004
SOMERVILLE, OH
MAHANA, LARRY | 3/18/2004
APACHE JUNCTION, AZ
MALAKE, KRISTEN | 3/18/2004
DES MOINES, IA
MASSIE, TRINA | 3/18/2004
PALM BAY, FL
MAYNARD, MELODIE | 3/18/2004
CAVE CREEK, AZ
MCCACHERN, ALLYSON | 3/18/2004
ADVANCE, NC
MCCLINTOCK, JOHN | 3/18/2004
COALINGA, CA
MCKNIGHT, GINA | 3/18/2004
BEECHGROVE, TN
MOOHEYHAM SHIPPY, MELISSA | 3/18/2004
BIMBLE, KY
MUNTZING, MAYNARD | 3/18/2004
LONDON, OH
MURO, FRANCISCO | 3/18/2004
PALMDALE, CA
MUTZ, THEODORE | 3/18/2004
SACRAMENTO, CA
MYLES, JANICE | 3/18/2004
PHOENIX, AZ
NAULLS, KITTY | 3/18/2004
BRYAN, TX
NELSON, HOLLY | 3/18/2004
OCEAN SHORES, WA
NEWELL, REBECCA | 3/18/2004
NEW VIRGINIA, IA
NORMAN, JOYCE | 3/18/2004
PALM BAY, FL
ODINGA, SAMWEL | 3/18/2004
NEVADA, MO
PARENT, BRIAN | 3/18/2004
CORDOVA, NC
PARKER, JAMES | 3/18/2004
RICHMOND, VA
PEREZ, JORGE | 3/18/2004
PALISADES PARK, NJ
PHILLIPS, LORI | 3/18/2004
VANDERGRIFT, PA
POLSIN, MICHAEL | 3/18/2004
HOLLYWOOD, MD
PRADA, ENRIQUE | 3/18/2004
WINTER GARDEN, FL
REINARD, HOLLY | 3/18/2004
DAYTONA BEACH, FL
REYER, TARA | 3/18/2004
HOCKLEY, TX
RIDDLE, WILLIAM | 3/18/2004
FAISON, NC
ROLLINS, MAURICE | 3/18/2004
SONORA, CA
ROOKHUYZEN, VAN | 3/18/2004
SAN FRANCISCO, CA
ROSCO, DEA | 3/18/2004
VALLEJO, CA
SANDERS, JACKIE | 3/18/2004
WICHITA, KS
SCHWARTZ, MICHEAL | 3/18/2004
KENNER, LA
SHAFFER, JOHN | 3/18/2004
LEXINGTON, NC
SHAIKH, MARIE | 3/18/2004
GLENDALE, AZ
SHAW, KAREN | 3/18/2004
SMITHVILLE, TN
SIBLEY, STEPHEN | 3/18/2004
ORMOND BEACH, FL
STABLEIN, LISA | 3/18/2004
TAMPA, FL
STANDARD, JOANNE | 3/18/2004
HAUPPAUGE, NY
STEVENS, BARBARA | 3/18/2004
ORMOND BEACH, FL
STEVENSON, RANDY | 3/18/2004
GRAND JUNCTION, CO
SWAN, LEA | 3/18/2004
SPOKANE, WA
TINKHAM, PHILLIP | 3/18/2004
ATLANTA, GA
TRAN, HENRY | 3/18/2004
BALDWIN PARK, CA
TRESIZE, JANE | 3/18/2004
SATELLITE BEACH, FL
WANG, XIN | 3/18/2004
MONTEREY PARK, CA
WEAVER, LOIS | 3/18/2004
NEWTON, NC
WELCH, MARK | 3/18/2004
PARK CITY, KS
WILKERSON, VIKKI | 3/18/2004
KENT, WA
WILSON, KAREN | 3/18/2004
MARTINEZ, CA
WILSON, SALLIE | 3/18/2004
HILTON HEAD ISLAND, SC
WOMELDORPH-ANNARINO, NANCY | 3/18/2004
NEWARK, OH
YUN, GARY | 3/18/2004
GLENVIEW, IL
ZEBRANEK, JAMES | 3/18/2004
ORLANDO, FL
FEDERAL/STATE EXCLUSION/SUSPENSION
CASTRO, ROBERT | 3/18/2004
OXNARD, CA
THOMPSON, KENNETH | 3/18/2004
FLENINGTON, NJ
FRAUD/KICKBACKS
BISTATE REHAB, INC | 7/26/2003
ST LOUIS, MO
LONG TERM CARE PROVIDERS, INC | 7/26/2003
ST LOUIS, MO
OWNED/CONTROLLED BY CONVICTED ENTITIES
BROOKS MEDICAL BILLING | 3/18/2004
DECATUR, GA
RURAL HEALTH TECHNOLOGIES, INC | 3/18/2004
SPRINGERVILLE, AZ
FAILURE TO PROVIDE PAYMENT INFORMATION
CORCORAN, MAUREEN | 11/25/2003
CHICAGO, IL
DEFAULT ON HEAL LOAN
ANDERSON, JEFFREY | 3/18/2004
HAYWARD, CA
CASTRO, HENRY | 3/18/2004
CORPUS CHRISTI, TX
MCCALLUM, RONALD | 3/18/2004
SUNNYVALE, CA
WADDLE, TOM | 3/18/2004
FORT WORTH, TX

Dated: February 2, 2004.
Katherine B. Petrowski,
Director, Exclusions Staff, Office of Inspector General.

[FR Doc. 04-5639 Filed 3-11-04; 8:45 am]

BILLING CODE 4150-04-P